COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes products previously furnished by such agencies.

DATES: Comments must be received on or before: October 06, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

NSN—Product Name: 8540-01-169-9010—Towel, Paper, Absorbent, White, Roll, 11″ x 9″

Mandatory Source of Supply: Outlook Nebraska, Inc, Omaha, NE

Mandatory for: Total Government Requirement

Contracting Activity: DEFENSE LOGISTICS AGENCY, DLA TROOP SUPPORT

NSNs 8415-00-SAM-4221 through 8415-00-SAM-4255

Trouser, Army Services Green Uniform, Men's, Classic Fit, Heritage Taupe—Sizes: 28-S, 29-S, 30-S, 31-S, 32-S, 33-S, 34-S, 35-S, 36-S, 37-S, 26-R, 28-R, 29-R, 30-R, 31-R, 32-R, 33-R, 34-R, 35-R, 36-R, 37-R, 29-L, 30-L, 31-L, 32-L, 33-L, 34-L, 35-L, 36-L, 37-L, 30-XL, 32-XL, 33-XL, 34-XL, 36-XL

NSNs 8415-00-SAM-4256 through 8415-00-SAM-4282

Trouser, Army Services Green Uniform, Men's, Athletic Fit, Heritage Taupe—Sizes: 33-S, 34-S, 35-S, 36-S, 37-S, 29-R, 30-R, 31-R, 32-R, 33-R, 34-R, 35-R, 36-R, 37-R, 30-L, 31-L, 32-L, 33-L, 34-L, 35-L, 36-L, 37-L, 30-XL, 32-XL, 33-XL, 34-XL, 36-XL

NSNs 8415-00-SAM-4361 through 8415-00-SAM-4397

Shirt, Army Services Green Uniform, Men's, Frch Plkt, L/S, Classic Fit, Heritge Tan—Sizes: 13½ x 32/33, 14 x 29, 14 x 30/31, 14 x 32/33, 14½ x 30/31, 14½ x 32/33, 15 x 29, 15 x 30/31, 15 x 32/33, 15 x 34/35, 15½ x 30/31, 15½ x 32/33, 15½ x 34/35, 16 x 29, 16 x 30/31, 16 x 32/33, 16 x 34/35, 16½ x 30/31, 16½ x 32/33, 16½ x 34/35, 16½ x 36/37, 17 x 32/33, 17 x 34/35, 17 x 36/37, 17½ x 32/33, 17½ x 34/35, 17½ x 36/37, 18 x 32/33, 18 x 34/35, 18 x 36/37, 18 x 38/39, 18½ x 34/35, 18½ x 36/37, 18½ x 38/39, 19 x 34/35, 19 x 36/37, 19 x 38/39

NSNs 8415-00-SAM-4398 through 8415-00-SAM-4428

Shirt, Army Services Green Uniform, Men's, Frch Plkt, L/S, Athletic Fit, Heritge Tan—Sizes: 15½ x 32/33, 15½ x 34/35, 16 x 30/31, 16 x 32/33, 16 x 34/35, 16½ x 32/33, 16½ x 34/35, 16½ x 36/37, 17 x 32/33, 17 x 34/35, 17 x 36/37, 17 x 38/39, 17½ x 32/33, 17½ x 34/35, 17½ x 36/37, 17½ x 38/39, 18 x 32/33, 18 x 34/35, 18 x 36/37, 18 x 38/39, 18½ x 32/33, 18½ x 34/35, 18½ x 36/37, 18½ x 38/39, 19 x 34/35, 19 x 36/37, 19 x 38/39, 19½ x 34/35, 19½ x 36/37, 20 x 34/35, 20 x 36/37

NSNs 8415-00-SAM-4429 through 8415-00-SAM-4440

Shirt, Army Services Green Uniform, Men's, Frch Plkt, S/S, Classic Fit, Heritage Tan—Sizes: 13½, 14, 14½, 15, 15½, 16, 16½, 17, 17½, 18, 18½, 19

NSNs 8415-00-SAM-4441 through 8415-00-SAM-4450

Shirt, Army Services Green Uniform, Men's, Frch Plkt, S/S, Athletic Fit, Heritage Tan—Sizes: 15½, 16, 16½, 17, 17½, 18, 18½, 19, 19½, 20

NSNs 8415-00-SAM-4451 through 8415-00-SAM-4547

Coat, Dress, Army Services Green Uniform, Men's, Athletic Fit, Heritage Green—Sizes: 33-XS, 34-XS, 35-XS, 36-XS, 37-XS, 38-XS, 39-XS, 40-XS, 41-XS, 42-XS, 33-S, 34-S, 35-S, 36-S, 37-S, 38-S, 39-S, 40-S, 41-S, 42-S, 43-S, 44-S, 45-S, 46-S, 47-S, 48-S, 49-S, 50-S, 51-S, 52-S, 54-S, 30-R, 31-R, 32-R, 33-R, 34-R, 35-R, 36-R, 37-R, 38-R, 39-R, 40-R, 41-R, 42-R, 43-R, 44-R, 45-R, 46-R, 47-R, 48-R, 49-R, 50-R, 51-R, 52-R, 54-R, 32-L, 33-L, 34-L, 35-L, 36-L, 37-L, 38-L, 39-L, 40-L, 41-L, 42-L, 43-L, 44-L, 45-L, 46-L, 47-L, 48-L, 49-L, 50-L, 51-L, 52-L, 54-L, 34-XL, 35-XL, 36-XL, 37-XL, 38-XL, 39-XL, 40-XL, 41-XL, 42-XL, 43-XL, 44-XL, 45-XL, 46-XL, 47-XL, 48-XL, 49-XL, 50-XL, 51-XL, 52-XL, 54-XL

NSNs 8415-00-SAM-4548 through 8415-00-SAM-4644

Coat, Dress, Army Services Green Uniform, Men's, Classic Fit, Heritage Green—Sizes: 33-XS, 34-XS, 35-XS, 36-XS, 37-XS, 38-XS, 39-XS, 40-XS, 41-XS, 42-XS, 33-S, 34-S, 35-S, 36-S, 37-S, 38-S, 39-S, 40-S, 41-S, 42-S, 43-S, 44-S, 45-S, 46-S, 47-S, 48-S, 49-S, 50-S, 51-S, 52-S, 54-S, 30-R, 31-R, 32-R, 33-R, 34-R, 35-R, 36-R, 37-R, 38-R, 39-R, 40-R, 41-R, 42-R, 43-R, 44-R, 45-R, 46-R, 47-R, 48-R, 49-R, 50-R, 51-R, 52-R, 54-R, 32-L, 33-L, 34-L, 35-L, 36-L, 37-L, 38-L, 39-L, 40-L, 41-L, 42-L, 43-L, 44-L, 45-L, 46-L, 47-L, 48-L, 49-L, 50-L, 51-L, 52-L, 54-L, 34-XL, 35-XL, 36-XL, 37-XL, 38-XL, 39-XL, 40-XL, 41-XL, 42-XL, 43-XL, 44-XL, 45-XL, 46-XL, 47-XL, 48-XL, 49-XL, 50-XL, 51-XL, 52-XL, 54-XL, 4-JR-P, 6-JR-P, 8-JR-P, 10-JR-P, 12-JR-P, 14-JR-P, 16-JR-P, 8-JR-R, 10-JR-R, 12-JR-R, 14-JR-R, 16-JR-R, 18-JR-R, 20-JR-R, 22-JR-R, 10-JR-T, 12-JR-T, 14-JR-T, 16-JR-T, 12-JR-XT, 14-JR-XT, 16-JR-XT, 4-M-P, 6-M-P, 8-M-P, 10-M-P, 12-M-P, 14-M-P, 16-M-P, 4-M-R, 6-M-R, 8-M-R, 10-M-R, 12-M-R, 14-M-R, 16-M-R, 18-M-R, 20-M-R, 22-M-R, 24-M-R, 26-M-R, 6-M-T, 8-M-T, 10-M-T, 12-M-T, 14-M-T, 16-M-T, 18-M-T, 20-M-T, 22-M-T, 24-M-T, 26-M-T, 16-M-XT, 18-M-XT, 20-M-XT, 4-W-P, 6-W-P, 8-W-P, 10-W-P, 12-W-P, 14-W-P, 16-W-P, 6-W-R, 8-W-R, 10-W-R, 12-W-R, 14-W-R, 16-W-R, 18-W-R, 20-W-R, 22-W-R, 6-W-T, 8-W-T, 10-W-T, 12-W-T, 14-W-T, 16-W-T, 18-W-T, 20-W-T, 22-W-T, 24-W-T, 26-W-T, 12-W-XT, 14-W-XT, 16-W-XT, 18-W-XT

Mandatory Source of Supply: Goodwill Industries of South Florida, Miami, FL (Men's Long & Short Sleeve Shirts); Middle Georgia Diversified Industries, Inc. (Men's Long & Short Sleeve Shirts); Dublin, GA; Puerto Rico Industries for the Blind, Corp, Mayaguez, PR (Men's & Women's Dress Coats); VGS, Inc., Cleveland, OH (Men's Trousers)

Mandatory Purchase For: 20% of the requirement of the U.S. Army

Contracting Activity: Army Contracting Command, Aberdeen Proving Grounds Natick, Natick, MA

Deletions

The following products are proposed for deletion from the Procurement List:

Products

NSN—Product Name: 8030-00-524-9487—Compound, Corrosion Preventative, Type II, Class I, 55 Gallons

Mandatory Source of Supply: The Lighthouse for the Blind, St. Louis, MO

Contracting Activity: DLA TROOP SUPPORT, PHILADELPHIA, PA

NSN—Product Name: 7510-01-660-3734—Toner Cartridge, Remanufactured, Standard Yield, Black, HP LaserJet M5025 MFP/5035/M5035X/M5035xsMFP

Mandatory Source of Supply: Alabama Industries for the Blind, Talladega, AL

Contracting Activity: GSA/FAS ADMIN SVCS ACQUISITION BR(2, NEW YORK, NY

Patricia Briscoe,
Deputy Director, Business Operations (Pricing and Information Management).

[FR Doc. 2019-19259 Filed 9-5-19; 8:45 am]

BILLING CODE 6353-01-P